DEPARTMENT OF DEFENSE

48 CFR Part 215

Defense Federal Acquisition Regulation Supplement; Profit Policy

AGENCY: Department of Defense (DoD).

ACTION: Notice of public meeting.

SUMMARY: The Director of Defense Procurement is sponsoring a public meeting to discuss the proposed Defense Federal Acquisition Regulation Supplement (DFARS) rule on changes to profit policy published in the Federal Register at 65 FR 45574 on July 24, 2000. The Director of Defense Procurement would like to hear the views of interested parties on what they believe to be the key issues pertaining to the proposed rule and potential alternatives. A listing of some of the possible issues is included on the Internet Home Page of the Office of Cost, Pricing, and Finance at http://www.acq.osd.mil/dp/cpf.

Subsequent to the discussions at the public meeting, the Director of Defense Procurement intends to publish a revised proposed rule for additional public comment.

DATES: The public meeting will be conducted at the address shown below on December 12, 2000, from 9 a.m. to 12 p.m., local time.

ADDRESSES: The public meeting will be conducted at Crystal Square 4, Suite 200A, 1745 Jefferson Davis Highway, Arlington, VA 22202.

FOR FURTHER INFORMATION CONTACT: Bob Bemben, Office of Cost, Pricing, and Finance, by telephone at (703) 695-9764; by FAX at (703) 693-9616; or by e-mail at bembenrj@acq.osd.mil.

Michele P. Peterson,
Executive Editor, Defense Acquisition Regulations Council.

[FR Doc. 00-29776 Filed 11-20-00; 8:45 am]

BILLING CODE 5000-04-M